ENVIRONMENTAL PROTECTION AGENCY

40 CFR Part 300

[FRL-7109-3]

National Oil and Hazardous Substances Pollution Contingency Plan; National Priorities List

AGENCY: Environmental Protection Agency (EPA).

ACTION: Direct final notice of deletion of the Fort Devens-Sudbury Training Annex Superfund Site from the National Priorities List.

SUMMARY: EPA-New England is publishing a direct final notice of deletion of the Fort Devens-Sudbury Training Annex Superfund Site (Site), located in Stow, Sudbury, Maynard, and Hudson, Massachusetts, from the National Priorities List (NPL).

The NPL, promulgated pursuant to section 105 of the Comprehensive Environmental Response, Compensation, and Liability Act (CERCLA) of 1980, as amended, is appendix B of 40 CFR part 300, which is the National Oil and Hazardous Substances Pollution Contingency Plan (NCP). This direct final notice of deletion is being published by EPA with the concurrence of the Commonwealth of Massachusetts, through the Department of Environmental Protection (MADEP) because EPA has determined that all appropriate response actions under CERCLA have been completed and, therefore, further remedial action pursuant to CERCLA is not appropriate.

DATES: This direct final deletion will be effective January 29, 2002 unless EPA receives adverse comments by December 31, 2001. If adverse comments are received, EPA will publish a timely withdrawal of the direct final deletion in the Federal Register informing the public that the deletion will not take effect.

ADDRESSES: Comments may be mailed to Christine Williams, Remedial Project Manager, U.S. Environmental Protection Agency-New England, One Congress Street, Suite 1100 (HBT), Boston, Massachusetts 02114-2023, (617) 918-1384, Fax (617) 918-1291, e-mail: williams.christine@epa.gov

Information Repository: Comprehensive information about the Site is available for viewing and copying at the Site information repository located at: Devens—RFTA, by appointment only Monday through Friday 8 am to 5 pm, (978) 796-3835 or (978) 796-2205.

FOR FURTHER INFORMATION CONTACT: Christine Williams, Remedial Project Manager, U.S. Environmental Protection Agency, One Congress Street, Suite 1100 (HBT), Boston, Massachusetts 02114-2023, (617) 918-1384, Fax (617) 918-1291, e-mail: williams.christine@epa.gov

SUPPLEMENTARY INFORMATION:

Table of Contents

I. Introduction

II. NPL Deletion Criteria

III. Deletion Procedures

IV. Basis for Site Deletion

V. Deletion Action

I. Introduction

EPA-New England is publishing this direct final notice of deletion of the Ft-Devens Sudbury Training Annex Superfund Site from the NPL.

The EPA identifies sites that appear to present a significant risk to public health or the environment and maintains the NPL as the list of those sites. As described in § 300.425(e)(3) of the NCP, sites deleted from the NPL remain eligible for remedial actions if conditions at a deleted site warrant such action.

Because EPA considers this action to be noncontroversial and routine, EPA is taking it without prior publication of a notice of intent to delete. This action will be effective January 29, 2002 unless EPA receives adverse comments by December 31, 2001 on this notice or the parallel notice of intent to delete published in the Proposed Rules section of today's Federal Register. If adverse comments are received within the 30-day public comment period on this notice or the notice of intent to delete, EPA will publish a timely withdrawal of this direct final notice of deletion before the effective date of the deletion and the deletion will not take effect. EPA will, as appropriate, prepare a response to comments and continue with the deletion process on the basis of the notice of intent to delete and the comments already received. There will be no additional opportunity to comment.

Section II of this document explains the criteria for deleting sites from the NPL. Section III discusses the procedures that EPA is using for this action. Section IV discusses the Ft-Devens Sudbury Training Annex Superfund Site and demonstrates how it meets the deletion criteria. Section V discusses EPA's action to delete the site from the NPL unless adverse comments are received during the public comment period.

II. NPL Deletion Criteria

Section 300.425(e) of the NCP provides that releases may be deleted from the NPL where no further response is appropriate. In making a determination to delete a release from the NPL, EPA shall consider, in consultation with the State, whether any of the following criteria has been met:

(i) Responsible parties or other persons have implemented all appropriate response actions required;

(ii) All appropriate Fund-financed (Hazardous Substance Superfund Response Trust Fund) response under CERCLA has been implemented, and no further response action by responsible parties is appropriate; or

(iii) The remedial investigation (RI) has shown that the release poses no significant threat to public health or the environment and, therefore, taking of remedial measures is not appropriate.

Even if a site is deleted from the NPL, where hazardous substances, pollutants, or contaminants remain at the deleted site above levels that allow for unlimited use and unrestricted exposure, CERCLA section 121(c), 42 U.S.C. 9621(c) requires that a subsequent review of the site will be conducted at least every five years after the initiation of the remedial action at the deleted site to ensure that the action remains protective of public health and the environment. In the case of this Site, a five-year review is necessary since all hazardous substances, pollutants and contaminants have not been removed from the Site. If new information becomes available which indicates a need for further action, EPA may initiate remedial actions. Whenever there is a significant release from a site deleted from the NPL, the deleted site may be restored to the NPL without the application of the hazard ranking system.

In the case of the Ft. Devens Sudbury Training Annex, the selected remedies are protective of human health and the environment. The Army will maintain the landfill cover and will perform long-term groundwater monitoring. The first five-year review was conducted by EPA, the Commonwealth of Massachusetts Department of Environmental Protection, and the Army this year (2001). Copies are located at the Repository previously noted. The remedies were deemed protective. Reviews will be conducted every five years hereafter.

III. Deletion Procedures

The following procedures apply to deletion of the Site:

(1) The EPA consulted with the Commonwealth of Massachusetts on the deletion of the Site from the NPL prior to developing this direct final notice of deletion.

(2) The Commonwealth of Massachusetts concurred with the deletion of the Site from the NPL.

(3) Concurrently with the publication of this direct final notice of deletion, a notice of the availability of the parallel notice of intent to delete published today in the Proposed Rules section of the Federal Register is being published in a major local newspaper of general circulation at or near the Site and is being distributed to appropriate federal, state and local government officials and other interested parties; the newspaper notice announces the 30-day public comment period concerning the notice of intent to delete the Site from the NPL.

(4) The EPA places copies of the documents supporting the deletion in the Site information repository identified above.

(5) If adverse comments are received within the 30-day public comment period on this action, EPA will publish a timely notice of withdrawal of this direct final notice of deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Location

The Ft. Devens Sudbury Training Annex (Site) lies in Middlesex County, Massachusetts, 20 miles west of Boston, and occupies approximately 2,300 acres within the towns of Hudson, Stow, Maynard, and Sudbury. The combined population of these four towns is approximately 50,000. The remaining area of contamination (A7) is located on the northern boundary of the Annex, adjacent to the Assabet River and within the boundaries of the town of Stow. Where developed land is adjacent to the Annex, it is residential. Green Meadow elementary school is approximately 1,000 feet northeast of the Annex boundary and Maynard High School 2,000 feet northeast.

Site Background and History

The Site was established as an Army ammunition storage point during WW II and since then has been used for ordnance research and development, materials research, and troop training. Research and development stopped in 1982 and there has been no training allowed since 1992. The Army stored PCB transformers from at least 1982 to 1985 at the Site. In 1985, a transformer was found to have been leaking due to a bullet hole. An estimated 100 to 200 gallons of PCB oil were released onto the ground. In 1986 the Army released the first remedial investigation focusing on 11 other areas of concern across the Site. The Site was placed on the EPA National Priorities List (NPL) as a Superfund Site in 1990 due to the known releases and in May 1991 the Army signed an Interagency Agreement with the EPA stipulating that site investigations (SI) and cleanup actions would follow CERCLA/Superfund Amendments and Reauthorization Act (SARA), under the regulatory guidance of the National Contingency Plan (NCP) 40 CFR part 300. A Technical Review Committee (TRC) was formed at this time also to, in part, provide a forum for discussion of citizens' concerns.

In 1995 the Site was placed on the Base Realignment and Closure (BRAC 95) list. The Site is planned to be transferred in three parts to (1) the United States Fish and Wildlife Service (F&WS) (2,205.2 acres), (completed), (2) U.S. Air Force (AF) (4.148 acres) (under negotiation), and (3) the Federal Emergency Management Agency (FEMA) (71.525 acres) (under negotiation). Puffer Pond (approximately 24 acres), which is defined by Massachusetts law to be a Great Pond (i.e., a natural pond with an area of 20 acres or more), is owned by the Commonwealth of Massachusetts and wholly located within property transferred to United States Fish and Wildlife Service.

The Site consists of five operable units (OU):

OU1-A7, the Old Gravel Pit Landfill, is about 2 acres in extent within a fenced area of 10 acres. It was used as a dump for general refuse, demolition debris, and chemical lab waste disposal. The lab waste area was limited to a pit of about 5,000 sq. ft. General refuse was reportedly buried at shallow depths since 1941, with occasional burning to reduce volume. A7 was also used by the public for unauthorized surface dumping during the 1970's, until access was restricted. This landfill was capped in 1997.

OU2-A9, the Petroleum, Oil and Lubricants (POL) Burn Area, was used from the 1950's to the 1980's for testing flame-retardant clothing and by the Massachusetts Fire Fighting Academy (MFFA). During the fire training two unlined trenches were filled with water, topped off with fuel oil and ignited. In 1988 approximately 1,100 yards of contaminated soil were excavated and removed from these training trenches and transported to a hazardous waste facility. An underground storage tank was also removed from this area.

OU3-A4, Waste Dump, contains a surface dump and a building foundation dated to the late 1600's. The site reportedly was used for the burial of unidentified chemical wastes and drums over a three to four year period from the late 1960s to early 1970s.

OU4-P11 and P13, Building T405 Dump Area and Massachusetts Fire Fighting Academy (MFFA). P-11 and P-13 areas were used for ordnance research and development; laboratory research on foamed plastics, organic chemicals, flame testing, meteorological projects, insecticide and rodenticide research; and training of Massachusetts State Police, Massachusetts Air National Guard, Massachusetts Army National Guard, and MFFA.

OU5-P37, P36 and A12, Former Raytheon Building T-106, T104 underground storage tank (UST) Area, and poly-chlorinated bi-phenyl (PCB) Transformer Remediation Area (in between the two buildings). T104 was used for research and development of missile guidance and radar systems and as a staging area for PCB transformers from at least 1982 to 1985. T106 was used for the assembly of electronic equipment. In 1988, two 1,000 gallon heating oil USTs were removed from near the two buildings. At A-12, in 1985, a transformer was found to have been leaking due to a bullet hole. An estimated 100 to 200 gallons of PCB oil were released onto the ground. By the time the removal action was completed, over 175 tons of contaminated soils were removed.

Remedial Investigation/Feasibility Study (RI/FS) Results and Record of Decision (ROD) Findings for Operable Units (OU) 1 and 2

Remedial Investigations of these areas of concern were conducted in 1992 and 1993 and found the contamination at A7 in surface and subsurface soils, groundwater, surface water, and sediment. Contamination occurs in three distinct areas: the solid waste disposal area covering the central and eastern portion with hot spots of metals and organochloric pesticides; the laboratory waste disposal pit in the west-central portion containing pesticides, chlorinated solvents, and unknown lab waste hazards; and groundwater contamination.

At A9, after early soil removal actions, contamination was still found in the surface and subsurface soils and in the groundwater. Metals were found above Massachusetts standards in surface and subsurface soils. In groundwater, chlorinated and non-chlorinated volatile organics, PAHs, and semi-volatile organics were found to exceed federal Maximum Contaminant Levels (MCLs) or Massachusetts standards.

Human Health Risks for both A7 and A9 were evaluated for current use and for future use. The future use included a residential scenario, which is the most conservative assessment for human health. Risks at both A7 and A9 were unacceptably high under the residential conditions and therefore remediation was required for the surface and subsurface soils. An ecological risk assessment for the two areas concluded that the level of contamination would not be likely to adversely affect terrestrial or aquatic wildlife.

The focused FS evaluated a presumptive containment remedy for the landfill and an additional soil removal for A-9.

OU1 and OU2 ROD Findings

A7 and A9 were divided into two remedial action operable units. The first Operable Unit (OU) was a source control OU. Lab waste and its contaminated soil was excavated and transported off-Site to a licensed hazardous waste facility. Solid waste and contaminated soil from A7 and A9 was used as subgrade as part of the construction of the Resource Conservation and Recovery Act (RCRA) Subtitle C multi-layer landfill cap at A7. The ROD required the Army to cover the landfill and to perform landfill cap operation and maintenance (O&M), groundwater and landfill gas monitoring, and to conduct 5 year reviews of the Site.

The second Operable Unit was a management of migration OU groundwater investigation for A7 and A9. Groundwater contamination at A-9 was found to be attenuating and no unacceptable human health or ecological risk was found. However, this No Further Action ROD included the commitment to long term monitoring in groundwater at A7 as required by the Final Operations & Maintenance Plan dated 1997 (semi-annual for VOCs, pesticides, & metals) as part of the remedy included in the Source Control ROD of 1995 for OU 1 and OU2.

RI/FS Results and ROD Findings for OU3(A-4), OU4 (P-11 and P-12), and OU5 (A12, P-36 & P-37)

Site investigation and remedial investigation (SI/RI) activities were performed in 1992 and 1993. Field work and laboratory analysis of additional samples to further characterize the areas of concern were performed in 1996. Low levels of contamination were found in all media after removal actions were performed at some areas, however, no groundwater plumes were found. None of the areas of concern in OUs 3, 4, or 5 posed unacceptable risks to human health or the environment. No Action RODs were signed for each of the OUs in 1996 and 1997.

Response Actions for OU1 and 2 (The Only Remedial Action (RA) Performed at the Site)

In 1995 a Record of Decision (ROD) documented the remedial action for the

Source Control OU.

The major components include:

• Excavation and off-Site treatment and disposal of laboratory waste at A7;

• Excavation of contaminated soil from A9 and consolidation at A7;

• Consolidation of contaminated soil and solid waste at A7 to within the limits of the landfill cap;

• Construction of a Resource Conservation and Recovery Act (RCRA) Subtitle C landfill cap at A7;

• Environmental monitoring and operation and maintenance (O&M) at A7; Institutional controls at A7 to limit future use and to restrict access and required five-year reviews at A7.

In 1997 the Record of Decision for No Action Under CERCLA for A4 and the Management of Migration OU at A7 and A9 was signed. This ROD included the commitment to long term monitoring as required by the Final Operations & Maintenance Plan 1997 (semi-annual for VOCs, pesticides & metals) of groundwater at A7 as part of the remedy included in the Source Control ROD of 1995 for OU1 and OU2. Groundwater contamination at A-9 was found to be attenuating. No unacceptable human health or ecological risk was found.

The only Remedial Action (RA) at the Site (capping at OU1) began on July 31, 1996 and ended on October 27, 1997. RA cleanup activities at the Site were consistent with the NCP, the ROD, and were protective of human health and the environment. Remedial Design/Remedial Action (RD/RA) plans for all phases of construction included a Quality Assurance Project Plan (QAPP) and incorporated all EPA and State quality assurance and quality control procedures and protocols during the RA. EPA analytical methods were used for the confirmatory and monitoring samples taken during all RA activities. EPA determined, in October 1997, that the analytical results were accurate to the degree necessary to assure satisfactory execution of the RA. The results showed that the cleanup standards were met and were consistent with the ROD and the remedial design plans and specifications.

Operations & Maintenance

The Army is responsible for conducting long-term maintenance and upkeep of the landfill cover and for monitoring landfill gas, and groundwater in accordance with the approved Long-Term Operation, Maintenance, and Monitoring Plan.

Five-Year Reviews

CERCLA requires a five-year review of all sites with hazardous substances remaining above the health-based levels for unrestricted use of the site. Since the containment of hazardous materials within the landfill, the five-year review process will be used to ensure that human health and the environment remain protected in the future. The first five-year review was performed in 2001 by the Army. EPA concurred with the Army's assessment that the remedies remain protective of human health and the environment. For future five-year reviews, EPA will review the Army's annual reports and consolidated five-year review on the operation and maintenance of A7, and perform a five-year review inspection. The Army will provide the next five-year review prior to July 8, 2006.

Community Involvement

Public participation activities have been satisfied as required in CERCLA section 113(k), 42 U.S.C. 9613(k), and CERCLA section 117, 42 U.S.C. 9617. Documents in the deletion docket which EPA relied on for recommendation of the deletion from the NPL are available to the public in the information repository noted above.

Quarterly, informal public meetings were held in the surrounding towns from 1991 to December 2000 and prior to and after each remedial action. Representatives from EPA, MADEP, and the Army with their consultants and contractors were present. These meetings proved to be extremely helpful in providing the public, especially the residents of adjoining neighborhoods, with important information regarding activities associated with all the investigations and each remedial action. These meetings were also particularly useful for the agencies and the Army in hearing and addressing the residents' concerns regarding on-site activities. The Army plans to continue these informal meetings to announce the findings of five-year reviews. The most recent meeting was held on November 14, 2001.

V. Deletion Action

The EPA, with concurrence from the Commonwealth of Massachusetts, has determined that all appropriate responses under CERCLA have been completed, and that no further response actions under CERCLA are necessary. Therefore, EPA is deleting the Site from the NPL.

Because EPA considers this action to be noncontroversial and routine, EPA is taking it without prior publication of a notice of intent to delete. This action will become effective January 29, 2002 unless EPA receives adverse comments by December 31, 2001. If adverse comments are received within the 30-day public comment period, EPA will publish a timely withdrawal of this direct final notice of deletion before the effective date of the deletion and it will not take effect. EPA will prepare a response to comments, as approriate, and continue with the traditional deletion process on the basis of the notice of intent to delete and the comments already received. There will be no additional opportunity to comment. If EPA receives no adverse comment(s), this deletion will become effective January 29, 2002.

List of Subjects in 40 CFR Part 300

Environmental protection, Air pollution control, Chemicals, Hazardous waste, Hazardous substances, Intergovernmental relations, Penalties, Reporting and recordkeeping requirements, Superfund, Water pollution control, Water supply.

Dated: November 15, 2001.
Robert W. Varney,
Regional Administrator, U.S. EPA-New England.

For the reasons set out in this document, 40 CFR part 300 continues to read as follows:

PART 300—[Amended].

1. The authority citation for part 300 continues to read as follows:

Authority: 33 U.S.C. 1321(c)(2); 42 U.S.C. 9601-9657; E.O. 12777, 56 FR 54757, 3 CFR, 1991 Comp.; p. 351; E.O. 12580, 52 FR 2923, 3 CFR, 1987 Comp., p. 193.

Appendix B—[Amended]

2. Table 2 of Appendix B to part 300 is amended under Fort Devens-Sudbury Training Annex Superfund Site by removing the entry for “Fort Devens-Sudbury Training Annex, Middlesex County.”

[FR Doc. 01-29552 Filed 11-29-01; 8:45 am]

BILLING CODE 6560-50-P